DEPARTMENT OF THE INTERIOR

Bureau of Land Management

[UTU 80808]

Public Land Order No. 7734; Withdrawal and Transfer of Jurisdiction of Public Land for the Department of Energy Crescent Junction Uranium Mill Tailings Repository; Utah

AGENCY: Bureau of Land Management, Interior.

ACTION: Public Land Order.

SUMMARY: This order withdraws approximately 936 acres of public land from the United States mining and mineral leasing laws and transfers jurisdiction to the Department of Energy for a period of 20 years for ancillary facilities at its Crescent Junction Uranium Mill Tailings Repository.

DATES: Effective Date: June 11, 2009.

FOR FURTHER INFORMATION CONTACT: Mary von Koch, Realty Specialist, BLM Moab Field Office, 82 East Dogwood Avenue, Moab, Utah 84532, 435-259-2128.

Order

By virtue of the authority vested in the Secretary of the Interior by Section 204 of the Federal Land Policy and Management Act of 1976, 43 U.S.C. 1714 (2000), it is ordered as follows:

1. Subject to valid existing rights, the following described public land is hereby withdrawn from location and entry under the United States mining laws (30 U.S.C. Ch. 2 (2000)), and from leasing under the mineral leasing laws (30 U.S.C. 181 et seq. and 30 U.S.C. 351 et seq. (2000)), to protect the Department of Energy's ancillary facilities at its Crescent Junction Uranium Mill Tailings Repository:

Salt Lake Meridian

T. 21 S., R. 19 E.,

Sec. 22, S½, excluding SE¼SE¼SW¼, NE¼SW¼SE¼, S½SW¼SE¼, and SE¼SE¼;

Sec. 23, S½, excluding S½S½N½SW¼, S½SW¼, and W½SW¼SW¼SE¼;

Sec. 26, the land lying North of the railroad right-of-way, excluding W½W½NW¼NE¼, N½NW¼, N½SW¼NW¼, N½NE¼SE¼NW¼, and NW¼SE¼NW¼;

Sec. 27, the land lying North of the railroad right-of-way, excluding N½NE¼, SW¼NE¼, N½SE¼NE¼, SW¼SE¼NE¼, E½NE¼NW¼, and E½SE¼NW¼.

The area described contains approximately 936 acres in Grand County.

2. Subject to retention of valid existing claims, rights, and interests, by the Secretary of the Interior as stated in Paragraph 3, full jurisdiction over the above-described land is hereby transferred to the Secretary of Energy and vests in the Department of Energy full management, jurisdiction, authority, responsibility, and liability for such land and all activities conducted therein.

3. The authority to administer any existing claims, rights, and interests in the above-described land established before June 11, 2009 is reserved to the Secretary of the Interior.

4. This withdrawal will expire 20 years from the effective date of this order unless, as a result of a review conducted before the expiration date pursuant to Section 204(f) of the Federal Land Policy and Management Act of 1976, 43 U.S.C. 1714(f)(2000), the Secretary determines that the withdrawal shall be extended.

Dated: May 21, 2009.
Ken Salazar,
Secretary of the Interior.

[FR Doc. E9-13637 Filed 6-9-09; 8:45 am]

BILLING CODE 6450-01-P